DEPARTMENT OF VETERANS AFFAIRS

38 CFR Ch. I

United Agenda of Federal Regulatory and Deregulatory Actions; Correction

AGENCY: Department of Veterans Affairs.

ACTION: Proposed rule; correction.

SUMMARY: This document contains an entry that was inadvertently omitted from the Unified Agenda of Federal Regulatory and Deregulatory Actions, published on December 9, 2002.

In the issue of Monday, December 9, 2002, the following text should have appeared on page 75137:

Office of the Inspector General

3050 Referral of Information Regarding Criminal Violations

Priority: Substantive, Nonsignificant.

Legal Authority: 5 U.S.C. app. 3; 38 U.S.C. 301; 38 U.S.C. 902

CFR Citation: 38 CFR 0.800; 38 CFR 0.810; 38 CFR 0.820; 38 CFR 0.830; 38 CFR 0.840; 38 CFR 14.560; 38 CFR 14.563; 38 CFR 17.170.

Legal Deadline: None.

Abstract: This document amends the Department of Veterans Affairs (VA) conduct regulations to provide that VA employees are required to report information about possible criminal activity to appropriate authorities. The VA Police and the VA Office of Inspector General, the Department's two law enforcement entities, will receive such information, will investigate those cases within their respective jurisdiction, and will refer proper cases for prosecution. In addition, this document clarifies and more accurately states the investigative jurisdiction of the Office of Inspector General. The intended effect of this action is to protect the VA, its employees, and the veterans it serves by having information about criminal activity reported and properly investigated as quickly and thoroughly as possible to prevent additional harm and to bring criminal perpetrators to justice.

Timetable
Action | Date | FR Cite
Final Action | 12/00/02

Regulatory Flexibility Analysis Required: No.

Small Entities Affected: No.

Government Levels Affected: Federal.

Agency Contact: Michael R. Bennett, Attorney Advisor, Department of Veterans Affairs, Office of Inspector General, 810 Vermont Avenue NW., Washington, DC 20420, Phone: 202-565-8678, Fax: 202-565-8113.

RIN: 2900-AL31.

Roland Halstead,
Acting Director, Office of Regulatory Law.

[FR Doc. 02-32628 Filed 12-26-02; 8:45 am]

BILLING CODE 8320-01-M